DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 12, 2004.

Interested persons are invited to submit written comments regarding the subject matter of the investigations to the Director, Division of Trade Adjustment Assistance, at the address shown below, not later than July 12, 2004.

The petitions filed in this case are available for inspection at the Office of the Director, Division of Trade Adjustment Assistance, Employment and Training Administration, U.S. Department of Labor, Room C-5311, 200 Constitution Avenue, NW., Washington, DC 20210.

Signed in Washington, DC this 21st day of June 2004.
Timothy Sullivan,
Director, Division of Trade Adjustment Assistance.

Appendix
[Petitions instituted between 06/01/2004 and 06/10/2004]
TA-W | Subject firm (petitioners) | Location | Date of institution | Date of petition
55,000 | Jacquart Fabric Products (Comp) | Ironwood, MI | 06/01/2004 | 05/24/2004
55,001 | Netwech PA (Comp) | Northampton, PA | 06/01/2004 | 05/19/2004
55,002 | Parallax Power Components (Comp) | Goodland, IN | 06/01/2004 | 05/20/2004
55,003 | Pomona Textile Co. (Comp) | Los Angeles, CA | 06/01/2004 | 05/28/2004
55,004 | Solutia, Inc. (Comp) | Anniston, AL | 06/01/2004 | 05/28/2004
55,005 | Sara Lee Hosiery (Comp) | Marion, SC | 06/01/2004 | 05/20/2004
55,006 | WestPoint Stevens (Comp) | Hickory, NC | 06/02/2004 | 06/01/2004
55,007 | Berwick Offray, LLC (Wkrs) | Berwick, PA | 06/02/2004 | 06/01/2004
55,008 | National Textiles (Comp) | Hodges, SC | 06/02/2004 | 06/01/2004
55,009 | Oregon Panel Products (OR) | Lebanon, OR | 06/02/2004 | 06/01/2004
55,010 | Rochelle Furniture (Comp) | Montgomery, PA | 06/02/2004 | 06/01/2004
55,011 | Caspain International Group (Wrks) | New York, NY | 06/02/2004 | 06/02/2004
55,012 | Lavallee and Ide, Inc. (Comp) | Winooski, VT | 06/02/2004 | 06/01/2004
55,013 | Molex, Inc. (NPC) | Rio Rico, AZ | 06/02/2004 | 05/25/2004
55,014 | Venture Industries (Wkrs) | Grand Rapids, MI | 06/03/2004 | 05/24/2004
55,015 | Allen Systems Group (NPS) | Naples, FL | 06/03/2004 | 06/02/2004
55,016 | BC Technologies, Inc. (GA) | Stockbridge, GA | 06/03/2004 | 06/02/2004
55,017 | Glatfelter (Comp) | Spring Grove, PA | 06/03/2004 | 06/02/2004
55,018 | Hewitt Associates, LLC (NPW) | Lincolnshire, IL | 06/03/2004 | 05/21/2004
55,019 | Timken Company (Comp) | Canton, OH | 06/03/2004 | 06/02/2004
55,020 | Bombardier learjet (NPC) | Indianapolis, IN | 06/03/2004 | 05/26/2004
55,021 | Parametric Technology Corp. (NPW) | Needham, MA | 06/03/2004 | 05/27/2004
55,022 | Jantzen, Inc. (NPW) | Portland, OR | 06/03/2004 | 05/27/2004
55,023 | X-L Grinding and Tool (Comp) | Alpena, MI | 06/03/2004 | 06/02/2004
55,024 | Springfield Plastics, Inc. (Comp) | E. Springfield, PA | 06/24/2004 | 05/27/2004
55,025 | Medex, Inc. (Comp) | Chicago, IL | 06/04/2004 | 06/02/2004
55,026 | Snow River (Comp) | Crandon, WI | 06/04/2004 | 06/02/2004
55,027 | Tyco Fire and Security (Comp) | Marinette, WI | 06/04/2004 | 06/02/2004
55,028 | Goodrich (Comp) | Aurora, OH | 06/04/2004 | 06/04/2004
55,029 | Leeda Sewing Mfg. (Wkrs) | San Francisco, CA | 06/04/2004 | 06/03/2004
55,030 | New Era Cap (Wkrs) | Buffalo, NY | 06/04/2004 | 05/25/2004
55,031 | Sherwood Home Furnishings (Wkrs) | Spring City, TN | 06/04/2004 | 05/26/2004
55,032 | Henagar Hosiery (Comp) | Henagar, AL | 06/07/2004 | 05/21/2004
55,033 | Tac Americas (Wkrs) | Carrollton, TX | 06/07/2004 | 06.03/2004
55,034 | Android Industries (Comp) | Vienna, OH | 06/07/2004 | 06/07/2004
55,035 | REMEC (Wkrs) | Irvine, CA | 06/07/2004 | 06/02/2004
55,036 | Spartech Vy-Cal (USWA) | Conshohocken, PA | 06/07/2004 | 06/02/2004
55,037 | Symbol Technologies (NPC) | Lake Forest, CA | 06/07/2004 | 06/03/2004
55,038 | Duracell GBMG (Comp) | Lexington, NC | 06/07/2004 | 06/04/2004
55,039 | APAC Customer Services (NPW) | Deerfield, IL | 06/07/2004 | 06/05/2004
55,040 | Corning Asahi Video (Comp) | State College, PA | 06/07/2004 | 06/04/2004
55,041 | Dielectric Communications (ME) | Raymond, ME | 06/07/2004 | 06/01/2004
55,042 | NCR Corporation (NPW) | Dayton, OH | 06/07/2004 | 05/27/2004
55,043 | Dorr-Oliver Eimco (Comp) | Milford, CT | 06/08/2004 | 06/02/2003
55,044 | Russell's Woodcarving (Comp) | Hickory, NC | 06/08/2004 | 06/07/2004
55,045 | Merrow Machine (CT) | Newington, CT | 06/08/2004 | 06/08/2004
55,046 | Schweitzer-Mauduit International (Comp) | Spotswood, NJ | 06/08/2004 | 06/08/2004
55,047 | Imperial Electric Co. (IBEW) | Middleport, OH | 06/08/2004 | 06/08/2004
55,048 | Effort Foundry (Comp) | Bath, PA | 06/08/2004 | 06/06/2004
55,049 | Bowe, Bell and Howell (Wkrs) | Allentwon, PA | 06/08/2004 | 06/08/2004
55,050A | TI Group Automotive System, LLC (Comp) | Sabina, OH | 06/09/2004 | 05/20/2004
55,050 | TI Group Automotive System, LLC (Comp) | Washington, Ct., OH | 06/09/2004 | 05/20/2004
55,051 | Sun Air Conditioning (GA) | Vienna, GA | 06/09/2004 | 06/03/2004
55,052 | Thermotech Company (Wkrs) | El Paso, TX | 06/09/2004 | 06/08/2004
55,053 | Solon Manufacturing Co. (ME) | Skowhegan, ME | 06/09/2004 | 06/01/2004
55,054 | Varco International (CA) | Orange, CA | 06/09/2004 | 06/03/2004
55,055 | Invista (Comp) | Chattanooga, TN | 06/09/2004 | 06/07/2004
55,056 | Knight Apparel Corp. (Wkrs) | New York, NY | 06/10/2004 | 06/01/2004
55,057 | Robert Bosch Tool Corp. (Comp) | Leitchfield, KY | 06/10/2004 | 06/07/2004
55,058 | Hewlett Packard (Comp) | Omaha, NE | 06/10/2004 | 06/02/2004
55,059 | Technical Machining Services Corp. (AR) | Rogers, AR | 06/10/2004 | 06/09/2004
55,060 | Nemanco, Inc. (Comp) | Philadelphia, MS | 06/10/2004 | 06/02/2004
55,061 | Prestolite Wire Corp. (Wkrs) | Tifton, GA | 06/10/2004 | 06/01/2004
55,062 | Lakeland Industries (Wkrs) | St. Joseph, MO | 06/10/2004 | 06/09/2004
55,063 | Milliken (Wkrs) | Union, SC | 06/10/2004 | 06/01/2004
55,064 | Annin and Co. (Wkrs) | Roseland, NJ | 06/10/2004 | 06/03/2004
55,065 | Franklin International (UIW) | Columbus, OH | 06/10/2004 | 05/18/2004
55,066 | Salton, Inc. (Comp) | Columbia, MO | 06/10/2004 | 06/09/2004
55,067 | Intier Automotive (Comp) | Auburn Hills, MI | 06/10/2004 | 06/01/2004
55,068 | TB Wood's Inc. (Comp) | Trenton, NJ | 06/10/2004 | 06/08/2004
55,069 | Eaton Aeroquip, Inc. (IAM) | Hohenwald, TN | 06/10/2004 | 06/09/2004

[FR Doc. 04-14911 Filed 6-30-04; 8:45 am]

BILLING CODE 4510-30-M